DEPARTMENT OF THE INTERIOR

Bureau of Indian Affairs

[201A2100DD/AAKC001030/A0A51010.999900]

Land Acquisitions; Cahto Tribe of the Laytonville Rancheria

AGENCY: Bureau of Indian Affairs, Interior.

ACTION: Notice.

SUMMARY: The Assistant Secretary—Indian Affairs has made a final determination to acquire 1.38 acres, more or less, into trust for the Cahto Tribe of the Laytonville Rancheria on March 11, 2020.

FOR FURTHER INFORMATION CONTACT: Ms. Sharlene M. Round Face, Bureau of Indian Affairs, Division of Real Estate Services, 1849 C Street NW, MS 4620-MIB, Washington, DC 20240, telephone (505) 563-3132.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register.

On March 11, 2020, the Assistant Secretary—Indian Affairs issued a decision to accept land in trust for the Cahto Tribe of the Laytonville Rancheria under the authority of the Indian Reorganization Act of 1934 (48 Stat. 984; 25 U.S.C. 5108).

Legal Description

The described real property in the County of Mendocino, State of California, more particularly described as:

Lots 5 and 29, as numbered and designated upon that certain map entitled “Survey and

Map of Long Valley Manor” in Section 12, Township North, Range 15 West, Mount Diablo Meridian, now on file in the office of the County Recorder, County of Mendocino, State of California.

Excepting therefrom that portion described in the deed to the State of California recorded September 14, 1987 in Book 1645 of Official Records, Page 197, Mendocino County Records.

Tara Sweeney,
Assistant Secretary, Indian Affairs.

[FR Doc. 2020-08641 Filed 4-22-20; 8:45 am]

BILLING CODE 4337-15-P